DEPARTMENT OF TRANSPORTATION

Federal Highway Administration

Notice of Final Federal Agency Action on Proposed Transportation Project in Illinois

AGENCY: Federal Highway Administration (FHWA), DOT.

ACTION: Notice of Limitation on Claims for Judicial Review of Actions by FHWA, United States Army Corps of Engineers (USACE), National Park Service (NPS), and other Federal Agencies.

SUMMARY: This notice announces actions taken by the FHWA, USACE, and NPS that are final. The action relates to the proposed construction of a new highway between Huntley Road and Illinois Route 62 and a new bridge crossing over the Fox River in Kane County. Those actions grant licenses, permits, and approvals for the project.

DATES: By this notice, the FHWA is advising the public of the final agency action subject to 23 U.S.C. 139(l)(1). A claim seeking judicial review of the Federal agency action of the proposed highway project will be barred unless the claim is filed on or before March 15, 2018. If the Federal law that authorizes judicial review of a claim provides a time period of less than 150 days for filing such claim, then that shorter time period still applies.

FOR FURTHER INFORMATION CONTACT: For FHWA: Ms. Catherine A. Batey, Division Administrator, 3250 Executive Park Drive, Springfield, Illinois 62703; telephone: (217) 492-4600; email address: Catherine.Batey@dot.gov. The FHWA Illinois Division Office's normal business hours are 7:30 a.m. to 4:15 p.m. (Central Standard Time). For USACE: Keith Wozniak, Chief, Regulatory Branch, 231 South LaSalle Street, Suite 1500, Chicago, Illinois 60604; telephone: (312) 846-5530; email address: Keith.L.Wozniak@usace.army.mil. The USACE Chicago District's normal business hours are 8:00 a.m. to 4:30 p.m. (Central Standard Time). For the Illinois Department of Transportation: Mr. Jose Rios, Engineer of Program Development, 201 West Center Court, Schaumburg, Illinois 60196; telephone: (847) 705-4000. The Illinois Department of Transportation Region One's normal business hours are 8:00 a.m. to 4:30 p.m. (Central Standard Time). For the Kane County Division of Transportation, Mr. Steve Coffinbarger, Assistant Director, 41W011 Burlington Road, St. Charles, IL 60175; telephone: (630) 584-5265. The Kane County Division of Transportation's normal business hours are 8:00 a.m. to 4:30 p.m. (Central Standard Time).

SUPPLEMENTARY INFORMATION: On January 13, 2017, the FHWA published a “Notice of Final Federal Agency Actions on Proposed Transportation Project in Illinois” in the Federal Register at 82 FR 4450 (January 13, 2017) for the following highway project: The proposed construction of a new highway between Huntley Road and Illinois Route 62 and a new bridge crossing over the Fox River in Kane County. Notice is hereby given that, subsequent to the earlier FHWA notice, the USACE has taken final agency actions within the meaning of 23 U.S.C. 139(l)(1) by issuing permits and approvals for the highway project. The actions by USACE, related final actions by other Federal agencies, and the laws under which such actions were taken, are described in the USACE decisions and its project records, referenced as LRC-2013-839. That information is available by contacting the USACE at the address provided above.

Notice is hereby given that subsequent to the earlier FHWA notice, FHWA completed a written re-evaluation pursuant to 23 CFR 771.129(c) and determined that the environmental document remains valid for the requested FHWA action.

Information about the project and project records also are available from the FHWA, the Illinois Department of Transportation, or the Kane County Division of Transportation at the addresses provided above. The FHWA EA and FONSI, and subsequent written re-evaluation, can be viewed and downloaded from the project Web site at http://www.co.kane.il.us/dot/foxBridges/longmeadowPkwy.aspx. The USACE decision is available by contacting the USACE at the address provided above.

This notice applies to all USACE and other Federal agency final actions taken after the January 13, 2017 issuance date of the FHWA Federal Register notice described above. The laws under which actions were taken include, but are not limited to:

1. General: National Environmental Policy Act (NEPA) [42 U.S.C. 4321-4351] Federal-Aid Highway Act [23 U.S.C. 109 and 23 U.S.C. 128].

2. Wetlands and Water Resources: Clean Water Act (Section 404, Section 401, Section 319) [33 U.S.C. 1251-1377].

3. Wildlife: Endangered Species Act [16 U.S.C. 1531-1544 and Section 1536].

4. Land: Land and Water Conservation Fund [54 U.S.C. 200301-200310]

5. Executive Orders: E.O. 11990 Protection of Wetlands.

(Catalog of Federal Domestic Assistance Program Number 20.205, Highway Research, Planning and Construction. The regulations implementing Executive Order 12372 regarding intergovernmental consultation on Federal programs and activities apply to this program).

Authority: 23 U.S.C. 139(l)(1).

Issued on: October 5, 2017.
Catherine A. Batey,
Division Administrator, Springfield, Illinois.

[FR Doc. 2017-22176 Filed 10-13-17; 8:45 am]

BILLING CODE 4910-RY-P